FEDERAL TRADE COMMISSION

Granting of Requests for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted September 1, 2019 Thru September 30, 2019
09/03/2019
20191856 | G | CK Williams UK Holdings Limited; Macquarie Infrastructure Partners II International, L.P.; CK Williams UK Holdings Limited.
20191858 | G | IIF US Holding 2 LP; El Paso Electric Company; IIF US Holding 2 LP.
20191859 | G | Marc Andreessen; Slack Technologies, Inc.; Marc Andreessen.
20191860 | G | Benjamin Horowitz; Slack Technologies, Inc.; Benjamin Horowitz.
20191868 | G | Glazer's, Inc.; John K. Gillis; Glazer's, Inc.
20191869 | G | Russel Metals Inc.; City Pipe & Supply Corp. Employee Stock Ownership Trust; Russel Metals Inc.
20191871 | G | Pilot Corporation; NGL Energy Partners LP; Pilot Corporation.
20191877 | G | Permira VII L.P. 1; Cambrex Corporation; Permira VII L.P. 1.
20191882 | G | Wind Point Partners CV1, LP; Callery Holdings, LLC; Wind Point Partners CV1, LP.
20191889 | G | Grain Communications Opportunities Fund II, L.P; Cable Bahamas,Ltd.; Grain Communications Opportunities Fund II, L.P.
20191893 | G | GTCR Fund XII/B LP; New York Credit SBIC Fund L.P.; GTCR Fund XII/B LP.
20191896 | G | CCP III AIV VII, L.P.; NVX Holdings, Inc.; CCP III AIV VII, L.P.
09/04/2019
20191862 | G | Luminus Energy Partners, Ltd.; Valaris plc; Luminus Energy Partners, Ltd.
09/06/2019
20191660 | G | Visa, Inc.; Matthew Katz; Visa, Inc.
20191863 | G | Paul C. Hilal; Aramark; Paul C. Hilal.
20191870 | G | Avon Rubber p.l.c.; 3M Company; Avon Rubber p.l.c.
20191887 | G | Sterling Construction Company, Inc.; Gregory K. Rogers; Sterling Construction Company, Inc.
20191891 | G | AIA Florence Aggregator LLC; LS Power Equity Partners III, L.P.; AIA Florence Aggregator LLC.
09/09/2019
20191678 | G | David and Janet Little; BNC Group LLC; David and Janet Little.
20191897 | G | Trident VI Parallel Fund, L.P.; Focus Financial Partners Inc.; Trident VI Parallel Fund, L.P.
20191900 | G | Banner Health; NCMC, Inc.; Banner Health.
20191902 | G | Wynnchurch Capital Partners IV, L.P.; Susan C. Walsh; Wynnchurch Capital Partners IV, L.P.
20191903 | G | Wynnchurch Capital Partners IV, L.P.; Gregory L. Weekes; Wynnchurch Capital Partners IV, L.P.
20191904 | G | SK Capital Partners V-A, LP; PolyOne Corporation; SK Capital Partners V-A, LP.
20191906 | G | Cerberus Institutional Partners VI, L.P.; Eileen C. Fisher and Mark J. Fisher; Cerberus Institutional Partners VI, L.P.
20191908 | G | Milestone Acquisition Holding, LLC; Chassis Acquisition Holding LLC; Milestone Acquisition Holding, LLC.
20191910 | G | BCEC Port Holdings (Delaware), LP; Presidio, Inc.; BCEC Port Holdings (Delaware), LP.
20191912 | G | Brad H Hall; Senergy Holdings LLC; Brad H Hall.
20191913 | G | The Simply Good Foods Company; Voyage Holdings, LLC; The Simply Good Foods Company.
20191915 | G | IG True Grit Holdings, LP; IG Igloo Holdings, Inc.; IG True Grit Holdings, LP.
20191917 | G | Tenex Capital Partners II, L.P.; Allied Wire & Cable, Inc.; Tenex Capital Partners II, L.P.
20191922 | G | Michael S. Dell; Carbon Black, Inc.; Michael S. Dell.
20191925 | G | Altas Partners Holdings II LP; The Resolute Fund III, L.P.; Altas Partners Holdings II LP.
20191928 | G | AstraZeneca PLC; Swedish Orphan Biovitrum AB (publ); AstraZeneca PLC.
20191931 | G | Acuity Brands, Inc.; Sentinel Capital Partners V, L.P.; Acuity Brands, Inc.
20191932 | G | Derek P. Maxfield & Shelaine Maxfield; Agnaten SE; Derek P. Maxfield & Shelaine Maxfield.
20191935 | G | Golden Gate Capital Opportunity Fund, L.P.; Wicks Capital Partners IV, L.P.; Golden Gate Capital Opportunity Fund, L.P.
09/10/2019
20191895 | G | New Mountain Partners V, L.P.; Specialist Resources Global, Inc.; New Mountain Partners V, L.P.
20191923 | G | Verisk Analytics, Inc.; Rothermere Continuation Limited; Verisk Analytics, Inc.
20191924 | G | The Charles Schwab Corporation; United Services Automobile Association; The Charles Schwab Corporation.
20191951 | G | Crescent Capital BDC, Inc.; Alcentra Capital Corporation; Crescent Capital BDC, Inc.
09/11/2019
20191946 | G | Investment AB Latour; Warren A. & Harriet C. Stephens; Investment AB Latour.
09/12/2019
20191948 | G | Sentinel Capital Partners VI, L.P.; New Era Technology, Inc.; Sentinel Capital Partners VI, L.P.
09/13/2019
20191955 | G | AMCP II Staffing AIV, LP; NMS Fund II, LP; AMCP II Staffing AIV, LP.
20191957 | G | AEA Investors Fund VII LP; The BMS Enterprises, Inc.; AEA Investors Fund VII LP.
20191959 | G | Liberty Tax, Inc.; Vitamin Shoppe, Inc.; Liberty Tax, Inc.
20191960 | G | Le Tote, Inc.; Hudson's Bay Company; Le Tote, Inc.
20191961 | G | Bessemer Securities LLC; E. Niles Wilcox; Bessemer Securities LLC.
20191967 | G | Warburg Pincus Global Growth, L.P.; Great Hill Equity Partners V, L.P.; Warburg Pincus Global Growth, L.P.
20191968 | G | Temenos Group AG; Kony, Inc.; Temenos Group AG.
20191969 | G | Pernod Ricard S.A; Castle Brands Inc.; Pernod Ricard S.A.
20191970 | G | H.I.G. Capital Partners V, L.P.; Housatonic Equity Investors V, L.P.; H.I.G. Capital Partners V, L.P.
20191971 | G | The Veritas Capital Fund VI, L.P.; American Institutes for Research in the Behavorial Sciences; The Veritas Capital Fund VI, L.P.
20191975 | G | J2 Acquisition Limited; Lee R. Anderson, Sr.; J2 Acquisition Limited.
20191977 | G | Wilaust Holdings Pty Ltd; Todd Pipe Holdings, Inc.; Wilaust Holdings Pty Ltd.
09/16/2019
20191976 | G | The Hershey Trust Company, as Trustee for Milton Hershey Sch; One Brands, LLC; The Hershey Trust Company, as Trustee for Milton Hershey Sch.
20191980 | G | TPG Partners VIII, L.P.; Vector Capital IV International, L.P.; TPG Partners VIII, L.P.
09/17/2019
20191878 | G | AI Convoy (Cayman) Limited; Cobham plc; AI Convoy (Cayman) Limited.
20191973 | G | Platinum Equity Capital Partners IV, L.P.; Harvest Partners V, L.P.; Platinum Equity Capital Partners IV, L.P.
20191984 | G | Permira VI L.P. 1; Axiom Global Inc.; Permira VI L.P. 1.
09/18/2019
20191947 | G | BIF IV UK AIV LP; Helios Aggregator L.P.; BIF IV UK AIV LP.
20191963 | G | General Atlantic Partners 100, L.P.; Grove Collaborative, Inc.; General Atlantic Partners 100, L.P.
20191965 | G | Wellspring Capital Partners VI, L.P.; HCI Equity Partners IV, L.P.; Wellspring Capital Partners VI, L.P.
20191982 | G | Global Diversified Infrastructure (North America) LP; SteelRiver Infrastructure Fund North America LP; Global Diversified Infrastructure (North America) LP.
09/19/2019
20190289 | G | Dairy Farmers of America, Inc.; Agropur Cooperative; Dairy Farmers of America, Inc.
09/20/2019
20191879 | G | Platinum Equity Capital Partners International IV (Cayman); Wesco Aircraft Holdings, Inc.; Platinum Equity Capital Partners International IV (Cayman).
20191983 | G | Centerbridge Capital Partners III, L.P.; Pitney Bowes Inc.; Centerbridge Capital Partners III, L.P.
20191985 | G | Pembina Pipeline Corporation; Kinder Morgan, Inc.; Pembina Pipeline Corporation.
20191987 | G | Sola Ltd, Charitable Trust; Jack Cooper Investments, Inc.; Sola Ltd, Charitable Trust.
20191988 | G | TCV IX (A), L.P.; Peloton Interactive, Inc.; TCV IX (A), L.P.
20191989 | G | TCV X, L.P.; Peloton Interactive, Inc.; TCV X, L.P.
20191993 | G | Susan B. McCollum; James B. Orthwein, Jr.; Susan B. McCollum.
20192000 | G | Star Insurance Holdings LLC; Syncora Holdings Ltd.; Star Insurance Holdings LLC.
20192004 | G | Stichting Administratiekantoor KINOHOLD (STAK); MJR Group, L.L.C.; Stichting Administratiekantoor KINOHOLD (STAK).
20192006 | G | Lifelong Learner Enterprises, LLC; PSI Enterprises, LLC; Lifelong Learner Enterprises, LLC.
20192008 | G | Arbor Investments IV, L.P.; Cordia Harrington & Tom Harrington; Arbor Investments IV, L.P.
20192010 | G | Tempo Holding Company, LLC; Northgate Luxembourg Holdings GP Sarl; Tempo Holding Company, LLC.
09/25/2019
20191920 | G | Addus HomeCare Corporation; New Capital Partners Private Equity Fund II, L.P.; Addus HomeCare Corporation.
20191990 | G | LMI PRS Aggregator, L.P.; Powerhouse Retail Services, LLC; LMI PRS Aggregator, L.P.
20192002 | G | Spur Energy Partners Holdings LLC; Concho Resources Inc.; Spur Energy Partners Holdings LLC.
20192012 | G | Redwood Ahead Acquisition, LLC; CSC Falcon Holdings, L.P.; Redwood Ahead Acquisition, LLC.
20192013 | G | Athene Holding Ltd.; General Electric Company; Athene Holding Ltd.
20192015 | G | CSC Falcon Holdings, L.P.; Redwood Ahead Acquisition, LLC; CSC Falcon Holdings, L.P.
20192017 | G | CNH Industrial N.V.; Nikola Corporation; CNH Industrial N.V.
20192019 | G | John Sherman; David D. Glass & Ruth A. Glass; John Sherman.
20192024 | G | Highbridge Multi-Strategy Master Fund, L.P.; Nalpropion Pharmaceuticals, Inc.; Highbridge Multi- Strategy Master Fund, L.P.
09/26/2019
20191949 | G | MasTec, Inc.; QuadGen Wireless Solutions Inc.; MasTec, Inc.
09/27/2019
20192034 | G | Fidelity National Information Services, Inc.; Virtus Partners Holdings, LLC; Fidelity National Information Services, Inc.
20192035 | G | Michael Paulus; Prudential Financial, Inc.; Michael Paulus.
20192036 | G | Michael Rowell; Prudential Financial, Inc.; Michael Rowell.
20192037 | G | Prudential Financial, Inc.; Michael Paulus; Prudential Financial, Inc.
20192038 | G | Prudential Financial, Inc.; Michael Rowell; Prudential Financial, Inc.
20192041 | G | Cigna Corporation; Verity Solutions Group, Inc.; Cigna Corporation.
20192045 | G | DFB Healthcare Acquisitions Corp.; AdaptHealth Holdings LLC; DFB Healthcare Acquisitions Corp.
20192050 | G | Stichting Bravak; Charles J. Silver; Stichting Bravak.
20192056 | G | Marlin Heritage II, L.P.; John D. Whitlock; Marlin Heritage II, L.P.
20192057 | G | Legacy Acquisition Corporation.; Blue Focus Intelligent Communications Group, Ltd.; Legacy Acquisition Corporation.

FOR FURTHER INFORMATION CONTACT: Theresa Kingsberry (202-326-3100), Program Support Specialist, Federal Trade Commission Premerger Notification Office, Bureau of Competition, Room CC-5301, Washington, DC 20024.

By direction of the Commission.
April Tabor,
Acting Secretary.

[FR Doc. 2019-22737 Filed 10-17-19; 8:45 am]

BILLING CODE 6750-01-P